DEPARTMENT OF AGRICULTURE

Grain Inspection, Packers and Stockyards Administration

Proposed Posting of Stockyards

AGENCY: Grain Inspection, Packers and Stockyards Administration, USDA.

ACTION: Notice and request for comments.

SUMMARY: This notice announces that 16 facilities now meet the definition of a stockyard under the Packers and Stockyards Act and therefore we propose to post signs identifying these facilities as posted stockyards. The purpose of this notice is to inform stockyard owners and the public of the posting status of all these facilities, and to provide an opportunity to comment on whether the facilities should be posted.

DATES: For the proposed posting of stockyards, we will consider comments that we receive by April 10, 2008.

ADDRESSES: We invite you to submit comments on this notice. You may submit comments by any of the following methods:

• E-Mail: Send comments via electronic mail to comments.gipsa@usda.gov.

• Mail: Send hardcopy written comments to H. Tess Butler, GIPSA, USDA, 1400 Independence Avenue, SW., Room 1633-S, Washington, DC 20250-3604.

• Fax: Send comments by facsimile transmission to: (202) 690-2755.

• Hand Delivery or Courier: Deliver comments to: H. Tess Butler, GIPSA, USDA, 1400 Independence Avenue, SW., Room 1643-S, Washington, DC 20250-3604.

• Federal eRulemaking Portal: Go to http://www.regulations.gov. Follow the on-line instructions for submitting comments.

SUPPLEMENTARY INFORMATION: The Grain Inspection, Packers and Stockyards Administration (GIPSA) administers and enforces the Packers and Stockyards Act of 1921 (7 U.S.C. 181-229) (P&S Act). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

* * * any place, establishment, or facility commonly known as stockyards, conducted, operated, or managed for profit or nonprofit as a public market for livestock producers, feeders, market agencies, and buyers, consisting of pens, or other inclosures, and their appurtenances, in which live cattle, sheep, swine, horses, mules, or goats are received, held, or kept for sale or shipment in commerce.

Section 302(b) of the P&S Act requires the Secretary to determine which stockyards meet this definition, and to notify the owner of the stockyard and the public of that determination by posting a notice in each designated stockyard. After giving notice to the stockyard owner and to the public, the stockyard will be subject to the provisions of Title III of the P&S Act (7 U.S.C. 201-203 and 205-217a) until the Secretary deposts the stockyard by public notice. To post a stockyard, we assign the stockyard a facility number, notify the owner of the stockyard facility, and send an official posting notice to the owner of the stockyard to post on display in public areas of the stockyard. The entire process is referred to as posting. The date of posting is the date on which the posting notices are physically displayed. A facility that doesn't meet the definition of stockyard in the P&S Act isn't posted and therefore isn't subject to provisions of the Packers and Stockyards Act. A posted stockyard can be deposted. We depost a stockyard when the facility can no longer be used as a stockyard.

This document notifies the stockyard owners and the public that the following 16 facilities meet the definition of a stockyard and that we, therefore, propose to post them. If we do not receive comments about these facilities, we expect that they will be posted by DD/MM/YY. If we receive comments that these facilities do not meet the definition of a stockyard, these facilities may not be posted, or the posting may be delayed while we consider the comments.

Facility number | Stockyard name and location
AL-195 | RS Auctions, Clayton, Alabama.
AL-196 | Clay County Goat & Poultry Auction, Goodwater, Alabama.
AR-180 | King Livestock Goat and Sheep Auction, North Lonoke, Arkansas.
AR-181 | G.P. Rivers d.b.a. Rivers Horse Center, Lewisville, Arkansas.
CO-156 | Western Slope Cattlemen's Livestock Auction, LLC, Loma, Colorado.
GA-231 | Thomas County Stockyards, Inc., Thomasville, Georgia.
MO-288 | CRS Sales LLC, Hughlandville, Missouri.
MS-176 | Cuevas Auction, Picayune, Mississippi.
NY-176 | Howard W. Visscher, Hilltop Dairy Auction, Savannah, New York.
SC-162 | Claxton's Auction Co., LLC, Ruffin, South Carolina.
TN-197 | Jimmy Brown d.b.a. JB Livestock Auction, Gleason, Tennessee.
TN-198 | Wallace P. Mitchell d.b.a. Mitchell's Trade Center & Auctions, Inc., Castalian Springs, Tennessee.
TN-199 | Middle Tennessee Sheep and Goat Sale, LLC, Dickson, Tennessee.
TX-350 | Hereford Livestock Exchange, Hereford, Texas.
VA-163 | Blythe Livestock, LLC, Courtland, Virginia.
WI-150 | Turenne Livestock Market, Thorp, Wisconsin.

Authority: 7 U.S.C. 202.

James E. Link,
Administrator, Grain Inspection, Packers and Stockyards Administration.

[FR Doc. E8-6090 Filed 3-25-08; 8:45 am]

BILLING CODE 3410-KD-P